DEPARTMENT OF DEFENSE

Office of the Secretary

Notice of Meeting

AGENCY: DoD Medicare-Eligible Retiree Health Care Board of Actuaries.

ACTION: Notice of meeting.

SUMMARY: A meeting of the Board has been scheduled to execute the provisions of Chapter 56, Title 10, United States Code (10 U.S.C. 1114). The Board shall review DoD actuarial methods and assumptions to be used in the valuation of benefits under DoD retiree health care programs for Medicare-eligible beneficiaries. Persons desiring to: (1) Attend the DoD Medicare-Eligible Retiree Health Care Board of Actuaries meeting, or (2) make an oral presentation or submit a written statement for consideration at the meeting, must notify Bill Klunk at (703) 696-7404 by May 3, 2004.

Notice of this meeting is required under the Federal Advisory Committee Act.

DATES: May 26, 2004, 1:30 p.m.-5 p.m.

ADDRESSES: 4040 N. Fairfax Drive, Suite 270, Arlington, VA 22203.

FOR FURTHER INFORMATION CONTACT: Bill Klunk, DoD Office of the Actuary, 4040 N. Fairfax Drive, Suite 308, Arlington, VA 22203, (703) 696-7404.

Dated: February 6, 2004.
L.M. Bynum,
Alternate OSD Federal Register Liaison Officer, Department of Defense.

[FR Doc. 04-3016 Filed 2-11-04; 8:45 am]

BILLING CODE 5001-06-M